DEPARTMENT OF THE INTERIOR

UTAH RECLAMATION MITIGATION AND CONSERVATION COMMISSION

[A1R-17549897-100-00-0-0, CUPCA00]

Central Utah Project Completion Act; East Hobble Creek Restoration Project Final Environmental Assessment

AGENCY: Office of the Assistant Secretary for Water and Science, Interior; Utah Reclamation Mitigation and Conservation Commission.

ACTION: Notice of availability.

SUMMARY: On April 2, 2013, the Department of the Interior and the Utah Reclamation Mitigation and Conservation Commission each signed a Finding of No Significant Impact associated with the Final Environmental Assessment—East Hobble Creek Restoration Project. These two agencies have determined that the proposed action as detailed in the Final Environmental Assessment will not have a significant impact on the quality of the human environment, and that an environmental impact statement is not required.

ADDRESSES: Copies of the Final Environmental Assessment and Finding of No Significant Impact are available for inspection at:

• Central Utah Water Conservancy District, 355 West University Parkway, Orem, Utah 84058-7303

• Department of the Interior, Central Utah Project Completion Act Office, 302 East 1860 South, Provo, Utah 84606

• Utah Reclamation Mitigation and Conservation Commission, 230 South 500 East, Suite 230, Salt Lake City, Utah 84102

The documents are also available at www.cuwcd.com, www.mitigationcommission.gov, and www.cupcao.gov.

FOR FURTHER INFORMATION CONTACT: Mr. Lee Baxter, Central Utah Project Completion Act Office, at (801) 379-1174; or email at lbaxter@usbr.gov.

SUPPLEMENTARY INFORMATION: The Department of the Interior, the Utah Reclamation Mitigation and Conservation Commission, and the Central Utah Water Conservancy District have completed evaluating the impacts of the proposed East Hobble Creek Restoration Project. The Final Environmental Assessment has been completed in conjunction with the June Sucker Recovery Implementation Program, and provides an analysis of the anticipated environmental effects of a proposed restoration effort on a portion of lower Hobble Creek, near Springville, Utah. This restoration effort is intended to facilitate the recovery of the June sucker, a federally listed endangered species, through improvement of spawning habitat and maintenance of stream flow. The effort analyzed included the potential restoration of approximately 2 miles of stream channel, modification or removal of several existing barriers to fish passage, use of the Utah Lake System Hobble Creek Valve Station for supplemental stream-flow releases, and enhancement of the existing water supply.

Dated: April 15, 2013.
Reed R. Murray,
Program Director, Central Utah Project Completion Act, Department of the Interior.
Dated: April 15, 2013.
Michael C. Weland,
Executive Director, Utah Reclamation Mitigation and Conservation Commission.

[FR Doc. 2013-10458 Filed 5-2-13; 8:45 am]

BILLING CODE 4310-MN-P